DEPARTMENT OF ENERGY

Federal Energy Regulatory Commission

[Docket No. EL01-118-000]

Investigation of Terms and Conditions of Public Utility Market-Based Rate Authorizations; Notice of Initiation of Proceeding and Refund Effective Date

November 21, 2001.

Take notice that on November 20, 2001, the Commission issued an order in the above-indicated dockets initiating a proceeding in Docket No. EL01-118-000 under section 206 of the Federal Power Act.

The refund effective date in Docket No. EL01-118-000 will be 60 days after publication of this notice in the Federal Register.

David P. Boergers,
Secretary.

[FR Doc. 01-29449 Filed 11-26-01; 8:45 am]

BILLING CODE 6717-01-P